DEPARTMENT OF THE INTERIOR

National Park Service

[NPS-NCR-MAMC-22282; PPNCNACEN0, PPMPSAS1Z.Y00000]

Notice of December 16, 2016, Meeting of the Mary McLeod Bethune Council House National Historic Site Advisory Commission

AGENCY: National Park Service, Interior.

ACTION: Meeting notice.

SUMMARY: This notice sets forth the meeting date of the Mary McLeod Bethune National Council House National Historic Site Advisory Commission.

DATES: The public meeting of the Mary McLeod Bethune Council House National Historic Site Advisory Commission will be held on Friday, December 16, 2016, at 9:00 a.m. (EASTERN).

ADDRESSES: The Commission meeting will be held on Friday, December 16, 2016, at 9:00 a.m., in the Library at National Capital Parks-East Headquarters, 1900 Anacostia Drive, SE., Washington, DC 20020, to discuss the following:

1. Welcome and Introductions

2. History of the Mary McLeod Bethune Council House National Historic Site Advisory Commission

3. Review of Advisory Commission Charter

4. Review of Federal Advisory Committee Act (5 U.S.C. 1-16 Appendix)

5. Discussion of General Policies and Specific Matters Related to the Administration of the Site

FOR FURTHER INFORMATION CONTACT: Vicky Gammon, Management Assistant, Office of the Superintendent, or Tara Morrison, Superintendent and Designated Federal Officer, National Capital Parks-East, 1900 Anacostia Drive, SE., Washington, DC 20020, telephone (202) 690-5193, or email at vicky_gammon@nps.gov or tara_morrison@nps.gov.

SUPPLEMENTARY INFORMATION: The Commission is established by Section 4 of Act (54 U.S.C. 320101 formerly 16 U.S.C. 461 note), Public Law 102-211, and is regulated by the Federal Advisory Committee Act, as amended, 5 U.S.C. Appendix 1-16. The purpose of the Commission is to fully participate in an advisory capacity with the Secretary of the Interior in the development of a General Management Plan for the historic site. The Advisory Commission will also, as often as necessary, but at least semiannually, meet and consult with the Secretary on matters relating to the management and development of the historic site.

The meeting is open to the public. It is expected that 15 persons will be able to attend the meeting in addition to Commission members. Interested persons may make oral/written presentations to the Commission during the business meeting or file written statements. Such requests should be made to the park superintendent prior to the meeting. Before including your address, telephone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-27177 Filed 11-9-16; 8:45 am]

BILLING CODE 4312-52-P